DEPARTMENT OF ENERGY

Federal Energy Regulatory Commission

[Docket No. AD10-12-000]

Improving Market and Planning Efficiency Through Improved Software; Notice of Agenda and Procedures for Staff Technical Conference

May 24, 2010.

This notice establishes the agenda and procedures for the staff technical conference to be held on June 9, 2010 and June 10, 2010 to discuss issues related to power system expansion planning models and software. The technical conference will be held from 8 a.m. to 5:30 p.m. (EDT) on June 9, 2010, and from 8 a.m. to 4:30 p.m. (EDT) on June 10, 2010 at the Federal Energy Regulatory Commission, 888 First Street, NE., Washington, DC 20426, in the Commission Meeting Room. All interested persons are invited to attend, and registration is not required.

The agenda for this conference is attached. The presentations will be technical in nature, and approximately 20 minutes in length with 5 to 10 minutes for questions. Equipment will be available for computer presentations. Presenters who wish to include comments, presentations, or handouts in the record for this proceeding should file their comments with the Commission. Comments may either be filed on paper or electronically via the eFiling link on the Commission's Web site at http://www.ferc.gov.

A free Webcast of this event is available through http://www.ferc.gov. Anyone with Internet access who desires to view this event can do so by navigating to http://www.ferc.gov' s Calendar of Events and locating this event in the calendar. The event will contain a link to its Webcast. The Capitol Connection provides technical support for the free Webcasts. It also offers access to this event via television in the DC area and via phone bridge for a fee. If you have any questions, visit http://www.CapitolConnection.org or call (703) 993-3100.

FERC conferences are accessible under section 508 of the Rehabilitation Act of 1973. For accessibility accommodations please send an e-mail to accessibility@ferc.gov or call toll free 1-866-208-3372 (voice) or 202-208-8659 (TTY), or send a fax to 202-208-2106 with the required accommodations.

For further information about this conference, please contact:

Eric Krall (Technical Information), Office of Energy Policy and Innovation, (202) 502-6214, Eric.Krall@ferc.gov.

Tom Dautel (Technical Information), Office of Energy Policy and Innovation, (202) 502-6196, Thomas.Dautel@ferc.gov.

Kimberly D. Bose,
Secretary.

Agenda for AD10-12 Staff Technical Conference on Planning Models and Software Federal Energy Regulatory Commission

June 9, 2010

June 9, 2010
8 a.m | Richard O'Neill, FERC—Welcome and Introduction.
| Session A: Current Approaches to Planning.
8:20 a.m | Henry Chao, NYISO.
| Brad Nickell, Western Electricity Coordinating Council.
| John Lawhorn, Midwest ISO.
| Steve Herling, PJM.
| Lisa Barton, American Electric Power.
| Kip Sikes, Idaho Power and Northern Tier Transmission Group.
11:30 a.m | Session B: Existing Planning Model Software.
| Jinxiang Zhu, ABB.
| Devin Van Zandt, GE.
12:30 p.m | Lunch.
1:30 p.m | Norm Richardson, Ventyx.
| John Condren, PowerGEM.
2:45 p.m | Session C: Computational Approaches.
| Jean-Paul Watson, Sandia National Laboratory.
| Robert Bixby, Gurobi Optimization.
3:45 p.m | Session D: Special Topics in Planning Models.
| Bryan Palmintier, Massachusetts Institute of Technology.
| Marija Ilic, Carnegie Mellon.
| Feng Zhao, ISO-NE.
5:30 p.m | Richard O'Neill, FERC—Day 1 Conclusion.
June 10, 2010
8 a.m | Richard O'Neill, FERC—Day 2 Welcome.
8:05 a.m | Session E: Variable Energy Resources in Planning Models.
| Walter Short, National Renewable Energy Laboratory.
| Loren Toole, Los Alamos National Laboratory.
| Vladimir Koritarov, Argonne National Laboratory.
11:30 a.m | Lunch.
12:30 p.m | Ross Guttromson, Pacific Northwest National Laboratory.
1 p.m | Session F: Current Approaches to Planning.
| Gaurav Karandikar, Eastern Interconnection Reliability Assessment Group.
| (ERAG)—Multiregional Modeling Working Group (MMWG).
1:30 p.m | Session G: Special Topics in Planning Models.
| Alex Rudkevich, Charles River Associates.
| Vladimir Koritarov, Argonne National Laboratory.
| Sarah Ryan, Iowa State University.
| Stephen S. Miller, Commonwealth Associates Inc.
| Ira Shavel, Barclay Gibbs, and Ralph Luciani, Charles River Associates.
4:30 p.m | Richard O'Neill, FERC—Conclusion and Next Steps.

[FR Doc. 2010-12990 Filed 5-28-10; 8:45 am]

BILLING CODE 6717-01-P